COMMITTEE FOR PURCHASE FROM PEOPLE WHO ARE BLIND OR SEVERELY DISABLED

Procurement List; Proposed Additions and Deletion

AGENCY: Committee for Purchase From People Who Are Blind or Severely Disabled.

ACTION: Proposed Additions to and Deletion from the Procurement List.

SUMMARY: The Committee is proposing to add a product and services to the Procurement List that will be furnished by nonprofit agencies employing persons who are blind or have other severe disabilities, and deletes a service previously furnished by such agency.

Comments Must Be Received On or Before: 11/14/2011.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Patricia Briscoe, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

NSN: 6140-01-413-3926—Rechargeable Battery, AA, Nickel Metal Hydride.

NPA: North Jersey Friendship House, Inc., Hackensack, NJ.

Contracting Activity: Defense Logistics Agency Land and Maritime, Columbus, OH.

Coverage: C-List for 100% of the requirement of the Department of Defense, as aggregated by the Defense Logistics Agency Land and Maritime, Columbus, OH.

Services

Service Type/Location: Custodial and Grounds Maintenance, Keyport Three Dimensional Range, Bldg. 475, NAVFAC NW., Zelatched Point, WA.

NPA: Skookum Educational Programs, Bremerton, WA.

Contracting Activity: Dept of the Navy, NAVFAC Northwest, Silverdale, WA.

Service Type/Location: Custodial Service, White Mountain National Forest, Saco Ranger Administrative Site, Routes 112, 33 Kancamagus Highway, Conway, NH.

NPA: Northern New England Employment Services, Portland, ME.

Contracting Activity: Department of Agriculture, Forest Service, Allegheny National Forest, Warren, PA.

Service Type/Location: Grounds Maintenance, United States Southern Command, 9301 NW., 33rd Street, Doral, FL.

NPA: Goodwill Industries of South Florida, Inc., Miami, FL.

Contracting Activity: Department of the Army, BASOPS Act Westside Plaza II, Miami, FL.

Deletion

Regulatory Flexibility Act Certification

I certify that the following action will not have a significant impact on a substantial number of small entities. The major factors considered for this certification were:

1. If approved, the action will not result in additional reporting, recordkeeping or other compliance requirements for small entities.

2. If approved, the action may result in authorizing a small entity to provide the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Removal of Tool Identification Numbers, Tinker Air Force Base, OK.

NPA: Work Activity Center, Inc., Moore, OK.

Contracting Activity: Dept of the Air Force, FA8101 OC ALC PKO, Tinker AFB, OK.

Patricia Briscoe,
Deputy Director, Business Operations, (Pricing and Information Management).

[FR Doc. 2011-26575 Filed 10-13-11; 8:45 am]

BILLING CODE 6353-01-P